DEPARTMENT OF HOMELAND SECURITY

Federal Emergency Management Agency

[Docket ID FEMA-2025-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The current effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Jeffrey Jackson,
Deputy Assistant Administrator, Federal Insurance Directorate, Resilience, Federal Emergency Management Agency, Department of Homeland Security.

State and county | Location and case No. | Chief executive officer of community | Community map repository | Date of modification | Community No.
Florida:
Clay (FEMA Docket No.: B-2520) | Unincorporated areas of Clay County (24-04-2893P) | The Honorable Betsy Condon, Chair, Clay County Board of Commissioners, P.O. Box 1366, Green Cove Springs, FL 32043 | Clay County Administration Building, 477 Houston Street, Green Cove Springs, FL 32043 | Aug. 1, 2025 | 120064
Duval (FEMA Docket No.: B-2527) | City of Jacksonville (25-04-0844P) | The Honorable Donna Deegan, Mayor, City of Jacksonville, 117 West Duval Street, Suite 400, Jacksonville, FL 32202 | City Hall, 117 West Duval Street, Suite 400, Jacksonville, FL 32202 | Aug. 6, 2025 | 120077
Lee (FEMA Docket No.: B-2527) | Unincorporated areas of Lee County (24-04-6920P) | David Harner, Manager, Lee County, 2115 2nd Street, Fort Myers, FL 33901 | Lee County Building Department, 1500 Monroe Street, Fort Myers, FL 33901 | Aug. 4, 2025 | 125124
Monroe (FEMA Docket No.: B-2531) | Unincorporated areas of Monroe County (25-04-0148P) | The Honorable Jim Scholl, Mayor, Monroe County Board of Commissioners, 530 Whitehead Street, Key West, FL 33040 | Monroe County Building Department, 2798 Overseas Highway, Suite 300, Marathon, FL 33050 | Jul. 25, 2025 | 125129
Orange (FEMA Docket No.: B-2520) | City of Orlando (24-04-6249P) | The Honorable Buddy Dyer, Mayor, City of Orlando, 400 South Orange Avenue, Orlando, FL 32801 | Public Works Department, Engineering Division, 400 South Orange Avenue, 8th Floor, Orlando, FL 32801 | Jul. 25, 2025 | 120186
Orange (FEMA Docket No.: B-2522) | City of Orlando (25-04-1337P) | The Honorable Buddy Dyer, Mayor, City of Orlando, 400 South Orange Avenue, Orlando, FL 32801 | Public Works Department, 400 South Orange Avenue, Orlando, FL 32801 | Aug. 11, 2025 | 120186
Orange (FEMA Docket No.: B-2522) | Unincorporated areas of Orange County (25-04-0551P) | The Honorable Jerry L. Demings, Mayor, Orange County, 201 South Rosalind Avenue, 5th Floor, Orlando, FL 32801 | Orange County Public Works Department, Stormwater Management Division, 4200 South John Young Parkway, Orlando, FL 32839 | Aug. 11, 2025 | 120179
Osceola (FEMA Docket No.: B-2534) | Unincorporated areas of Osceola County (24-04-5261P) | Don Fisher, Manager, Osceola County, 1 Courthouse Square, Suite 4700, Kissimmee, FL 34741 | Osceola County Public Works Department, 1 Courthouse Square, Suite 1400, Kissimmee, FL 34741 | Aug. 8, 2025 | 120189
Palm Beach (FEMA Docket No.: B-2527) | City of Westlake (23-04-4870P) | The Honorable John Paul O'Connor, Mayor, City of Westlake, 4001 Seminole Pratt Whitney Road, Westlake, FL 33470 | City Hall, 4001 Seminole Pratt Whitney Road, Westlake, FL 33470 | Aug. 4, 2025 | 120018
Pasco (FEMA Docket No.: B-2522) | Unincorporated areas of Pasco County (24-04-2976P) | Kathryn Starkey, Chair, Pasco County Board of Commissioners, 37918 Meridian Avenue, Dade City, FL 33525 | Pasco County Building Construction Services Department, 8661 Citizens Drive, Suite 100, New Port Richey, FL 34654 | Aug. 11, 2025 | 120230
Pasco (FEMA Docket No.: B-2520) | Unincorporated areas of Pasco County (24-04-3863P) | The Honorable Kathryn Starkey, Chair, Pasco County Board of Commissioners, 37918 Meridian Avenue, Dade City, FL 33525 | Pasco County Building Construction Services Department, 8661 Citizens Drive, Suite 100, New Port Richey, FL 34654 | Aug. 4, 2025 | 120230
Pasco (FEMA Docket No.: B-2522) | Unincorporated areas of Pasco County (24-04-5989P) | The Honorable Kathryn Starkey, Chair, Pasco County Board of Commissioners, 37918 Meridian Avenue, Dade City, FL 33525 | Pasco County Building Construction Services Department, 8661 Citizens Drive, Suite 100, New Port Richey, FL 34654 | Jul. 24, 2025 | 120230
Georgia: Columbia (FEMA Docket No.: B-2520) | Unincorporated areas of Columbia County (24-04-1033P) | The Honorable Douglas R. Duncan, Jr., Chair, Columbia County Board of Commissioners, 630 Ronald Reagan Drive, Building B, Evans, GA 30809 | Columbia County Engineering Services Division, Stormwater Compliance Department, 630 Ronald Reagan Drive, Building A, Evans, GA 30809 | Jul. 25, 2025 | 130059
Indiana:
Hamilton (FEMA Docket No.: B-2520) | City of Noblesville (24-05-1632P) | The Honorable Chris Jensen, Mayor, City of Noblesville, 16 South 10th Street, Noblesville, IN 46060 | City Hall, 16 South 10th Street, Noblesville, IN 46060 | Jul. 22, 2025 | 180082
Hamilton (FEMA Docket No.: B-2520) | Unincorporated areas of Hamilton County (24-05-1632P) | Mark Heirbrandt, President, Hamilton County Board of Commissioners, 1 Hamilton County Square, Suite 157, Noblesville, IN 46060 | Hamilton County Administration Building, 1 Hamilton County Square, Suite 13, Noblesville, IN 46060 | Jul. 22, 2025 | 180080
Porter (FEMA Docket No.: B-2531) | City of Portage (24-05-1233P) | The Honorable Austin Bonta, Mayor, City of Portage, 6070 Central Avenue, Portage, IN 46368 | City Hall, 6070 Central Avenue, Portage, IN 46368 | Jul. 25, 2025 | 180202
Michigan: Macomb (FEMA Docket No.: B-2522) | City of Sterling Heights (24-05-2340P) | Mark D. Vanderpool, Manager, City of Sterling Heights, 40555 Utica Road, Sterling Heights, MI 48311 | City Hall, 40555 Utica Road, Sterling Heights, MI 48311 | Jul. 23, 2025 | 260128
Minnesota: Hennepin (FEMA Docket No.: B-2520) | City of Maple Grove (24-05-2167P) | Heidi Nelson, Administrator, City of Maple Grove, 12800 Arbor Lakes Parkway North, Maple Grove, MN 55369 | City Hall, 12800 Arbor Lakes Parkway North, Maple Grove, MN 55369 | Jul. 18, 2025 | 270169
Mississippi: Hancock (FEMA Docket No.: B-2522) | City of Bay St. Louis (23-04-6175P) | The Honorable Mike Farve, Mayor, City of Bay St. Louis, 688 Highway 90, Bay St. Louis, MS 39520 | City Hall, 688 Highway 90, Bay St. Louis, MS 39520 | Aug. 1, 2025 | 285251
Missouri:
St. Louis (FEMA Docket No.: B-2527) | City of Brentwood (25-07-0359P) | Bola Akande, Administrator, City of Brentwood, 2348 South Brentwood Boulevard, Brentwood, MO 63144 | City Hall, 2348 South Brentwood Boulevard, Brentwood, MO 63144 | Aug. 11, 2025 | 290338
St. Louis (FEMA Docket No.: B-2527) | City of Maplewood (25-07-0359P) | Amber Withycombe, Manager, City of Maplewood, 7601 Manchester Road, Maplewood, MO 63143 | City Hall, 7601 Manchester Road, Maplewood, MO 63143 | Aug. 11, 2025 | 295266
St. Louis (FEMA Docket No.: B-2527) | City of Webster Groves (25-07-0359P) | The Honorable Laura Arnold, Mayor, City of Webster Groves, 4 East Lockwood Avenue, Webster Groves, MO 63119 | City Hall, 4 East Lockwood Avenue, Webster Groves, MO 63119 | Aug. 11, 2025 | 290394
Ohio: Lucas (FEMA Docket No.: B-2520) | Unincorporated areas of Lucas County (24-05-0756P) | Lisa A. Sobecki, President, Lucas County Board of Commissioners, 1 Government Center, Toledo, OH 43604 | Lucas County Government Center, 1 Government Center, Toledo, OH 43604 | Jul. 25, 2025 | 390359
Tennessee:
Fayette (FEMA Docket No.: B-2531) | City of Piperton (24-04-2852P) | The Honorable Henry Coats, Mayor, City of Piperton, 3300 Highway 196 South, Piperton, TN 38017 | City Hall, 3575 Highway 196, Piperton, TN 38017 | Jul. 31, 2025 | 470401
Shelby (FEMA Docket No.: B-2522) | City of Germantown (24-04-1644P) | The Honorable Mike Palazzolo, Mayor, City of Germantown, 1930 South Germantown Road, Germantown, TN 38138 | Economic and Community Development Building, 1920 South Germantown Road, Germantown, TN 38138 | Aug. 11, 2025 | 470353
Shelby (FEMA Docket No.: B-2522) | Unincorporated areas of Shelby County (24-04-1644P) | The Honorable Lee Harris, Mayor, Shelby County, 160 North Main Street, 11th Floor, Memphis, TN 38103 | Shelby County Engineers Office, 6463 Haley Road, Memphis, TN 38134 | Aug. 11, 2025 | 470353
Texas:
Bexar (FEMA Docket No.: B-2534) | City of San Antonio (24-06-0795P) | The Honorable Ron Nirenberg, Mayor, City of San Antonio, P.O. Box 839966, San Antonio, TX 78283 | Public Works Department, Storm Water Division, 1901 South Alamo Street, 2nd Floor, San Antonio, TX 78205 | Aug. 11, 2025 | 480045
Collin (FEMA Docket No.: B-2520) | City of McKinney (24-06-1188P) | The Honorable George Fuller, Mayor, City of McKinney, 401 East Virginia Street, McKinney, TX 75069 | Public Works Department, 3501 North Central Parkway, McKinney, TX 75071 | Aug. 4, 2025 | 480135
Montgomery (FEMA Docket No.: B-2534) | City of Conroe (24-06-1194P) | The Honorable Duke W. Coon, Mayor, City of Conroe, P.O. Box 3066, Conroe, TX 77301 | City Hall, 300 West Davis Street, Conroe, TX 77301 | Aug. 11, 2025 | 480484
Montgomery (FEMA Docket No.: B-2534) | Unincorporated areas of Montgomery County (24-06-1194P) | The Honorable Mark J. Keough, Montgomery County Judge, 501 North Thompson Street, Suite 401, Conroe, TX 77301 | Montgomery County Alan B. Sadler Commissioners Court Building, 501 North Thompson Street, Suite 100, Conroe, TX 77301 | Aug. 11, 2025 | 480483
Rockwall (FEMA Docket No.: B-2522) | City of Royse City (24-06-1001P) | The Honorable Clay Ellis, Mayor, City of Royse City, P.O. Box 638, Royse City, TX 75189 | City Hall, 100 West Main Street, Royse City, TX 75189 | Aug. 1, 2025 | 480548
Tarrant (FEMA Docket No.: B-2522) | City of Haltom City (24-06-2022P) | The Honorable An Truong, Mayor, City of Haltom City, 4801 Haltom Road, Haltom City, TX 76117 | Public Works Department, 4200 Hollis Street, Haltom City, TX 76111 | Aug. 7, 2025 | 480599
Tarrant (FEMA Docket No.: B-2522) | City of Haslet (24-06-0031P) | The Honorable Gary Hulsey, Mayor, City of Haslet, 101 Main Street, Haslet, TX 76052 | City Hall, 101 Main Street, Haslet, TX 76052 | Aug. 11, 2025 | 480600
Tarrant (FEMA Docket No.: B-2522) | City of Richland Hills (24-06-2022P) | The Honorable Curtis Bergthold, Mayor, City of Richland Hills, 3200 Diana Drive, Richland Hills, TX 76118 | City Hall, 3200 Diana Drive, Richland Hills, TX 76118 | Aug. 7, 2025 | 480608
Texas: Tarrant (FEMA Docket No.: B-2522) | Unincorporated areas of Tarrant County (24-06-0031P) | The Honorable Tim O'Hare, Tarrant County Judge, 100 East Weatherford Street, Suite 501, Fort Worth, TX 76196 | Tarrant County Transportation Services Department, 200 Taylor Street, Suite 305, Fort Worth, TX 76196 | Aug. 11, 2025 | 480582
Travis (FEMA Docket No.: B-2522) | City of Austin (24-06-1484P) | T.C. Broadnax, Manager, City of Austin, P.O. Box 1088, Austin, TX 78767 | Watershed Protection Department, 505 Barton Springs Road, 11th Floor, Austin, TX 78704 | Aug. 11, 2025 | 480624
Virginia: Loudoun (FEMA Docket No.: B-2534) | Town of Leesburg (24-03-0821P) | Kaj Dentler, Manager, Town of Leesburg, 25 West Market Street, Leesburg, VA 20176 | Department of Community Development, Engineering Division, 222 Catoctin Circle, Suite 200, Leesburg, VA 20175 | Aug. 4, 2025 | 510091
Wisconsin:
Kenosha (FEMA Docket No.: B-2531) | City of Kenosha (23-05-0545P) | The Honorable David Bogdala, Mayor, City of Kenosha, 625 52nd Street, Room 300, Kenosha, WI 53140 | City Hall, 625 52nd Street, Room 308, Kenosha, WI 53140 | Jul. 25, 2025 | 550209
Kenosha (FEMA Docket No.: B-2534) | Village of Bristol (24-05-0361P) | Mike Farrell, President, Village of Bristol Board, 19801 83rd Street, Bristol, WI 53104 | Village Hall, 19801 83rd Street, Bristol, WI 53104 | Aug. 7, 2025 | 550595
Kenosha (FEMA Docket No.: B-2531) | Village of Pleasant Prairie (23-05-0545P) | John P. Steinbrink, President, Village of Pleasant Prairie, 9915 39th Avenue, Pleasant Prairie, WI 53158 | Village Hall, 9915 39th Avenue, Pleasant Prairie, WI 53158 | Jul. 25, 2025 | 550613
Kenosha (FEMA Docket No.: B-2534) | Village of Pleasant Prairie (24-05-0361P) | John P. Steinbrink, President, Village of Pleasant Prairie Board, 9915 39th Avenue, Pleasant Prairie, WI 53158 | Village Hall, 9915 39th Avenue, Pleasant Prairie, WI 53158 | Aug. 7, 2025 | 550613
Kenosha (FEMA Docket No.: B-2531) | Unincorporated areas of Kenosha County (23-05-0545P) | Samantha Kerkman, Kenosha County Executive, 1010 56th Street, Kenosha, WI 53140 | Kenosha County Center, 19600 75th Street, Bristol, WI 53104 | Jul. 25, 2025 | 550523
Kenosha (FEMA Docket No.: B-2531) | Village of Somers (23-05-0545P) | George Stoner, President, Village of Somers, P.O. Box 197, Somers, WI 53171 | Village Hall, 7511 12th Street, Somers, WI 53144 | Jul. 25, 2025 | 550406

[FR Doc. 2025-20377 Filed 11-19-25; 8:45 am]

BILLING CODE 9110-12-P